INTERNATIONAL TRADE COMMISSION

[USITC SE-16-020]

Sunshine Act Meeting

AGENCY HOLDING THE MEETING: United States International Trade Commission.

TIME AND DATE: June 22, 2016 at 11:00 a.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. Nos. 701-TA-541 and 731-TA-1284 and 1286 (Final) (Cold-Rolled Steel Flat Products from China and Japan). The Commission is currently scheduled to complete and file its determinations and views of the Commission on July 5, 2016.

5. Outstanding action jackets: None.

In accordance with Commission policy, subject matter listed above, not disposed of at the scheduled meeting, may be carried over to the agenda of the following meeting.

By order of the Commission.
Issued: June 8, 2016.
William R. Bishop,
Supervisory Hearings and Information Officer.

[FR Doc. 2016-14044 Filed 6-9-16; 4:15 pm]

BILLING CODE 7020-02-P